FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011654-019.

Title: The Middle East Indian Subcontinent Discussion Agreement.

Parties: A.P. Moller-Maersk A/S; CMA CGM S.A.; Hapag-Lloyd AG; National Shipping Company of Saudi Arabia; Swire Shipping Limited; and United Arab Shipping Company (S.A.G.).

Filing Party: Wayne R. Rohde, Esq.; Sher & Blackwell LLP; 1850 M Street, NW; Suite 900; Washington, DC 20036.

Synopsis: The amendment deletes Emirates Shipping Line FZE; Shipping Corporation of India Ltd.; and Zim Integrated Shipping Services, Ltd. as parties to the agreement.

Agreement No.: 011794-008.

Title: COSCON/KL/YMUK/Hanjin/Senator Worldwide Slot Allocation & Sailing Agreement.

Parties: COSCO Container Lines Company, Limited; Kawasaki Kisen Kaisha, Ltd.; Yangming (UK) Ltd.; Hanjin Shipping Co., Ltd.; and Senator Lines GmbH.

Filing Party: Robert B. Yoshitomi, Esq.; Nixon Peabody LLP; 555 West Fifth Street, 46th Floor; Los Angeles, CA 90013.

Synopsis: The amendment revises the vessel contributions and fleet capacities of the parties.

Agreement No.: 012024.

Title: K-Line/NYK Atlantic Space Charter Agreement.

Parties: Kawasaki Kisen Kaisha and Nippon Yusen Kaisha.

Filing Party: Wayne R. Rohde, Esq.; Sher & Blackwell LLP; 1850 M Street, NW; Suite 900; Washington, DC 20036.

Synopsis: The agreement authorizes K-Line to charter space to NYK in the trade between the U.S. East Coast and North Europe.

Agreement No.: 012025.

Title: PSW/NC Space Charter Agreement.

Parties: Swordfish Shipping Inc. and NYKCool AB.

Filing Party: Wayne R. Rohde, Esq.; Sher & Blackwell LLP; 1850 M Street, NW; Suite 900; Washington, DC 20036.

Synopsis: The agreement authorizes the parties to charter space to each other in the trade between the U.S. East and West Coasts and Chile.

Agreement No.: 012026.

Title: Grand Alliance/Zim Atlantic Vessel Sharing Agreement.

Parties: Hapag-Lloyd AG; Nippon Yusen Kaisha; Orient Overseas Container Line (Europe) Limited; Orient Overseas Container Line Limited; Orient Overseas Container Line, Inc.; ZIM Integrated Shipping Services Limited.

Filing Party: Wayne R. Rohde, Esq; Sher & Blackwell LLP; 1850 M Street, NW; Suite 900; Washington, DC 20036.

Synopsis: Agreement would authorize the parties to share vessel space between the U.S. Atlantic Coast and North Europe. The parties request expedited review.

Dated: February 1, 2008.
By Order of the Federal Maritime Commission.
Karen V. Gregory,
Assistant Secretary.

[FR Doc. E8-2220 Filed 2-6-08; 8:45 am]

BILLING CODE 6730-01-P